DEPARTMENT OF COMMERCE

Foreign-Trade Zones Board

[B-64-2023]

Foreign-Trade Zone (FTZ) 94, Notification of Proposed Production Activity; PREH INC.; (Automotive Display Assemblies); Laredo, Texas

The City of Laredo, grantee of FTZ 94, submitted a notification of proposed production activity to the FTZ Board (the Board) on behalf of PREH INC., located in Laredo, Texas within FTZ 94. The notification conforming to the requirements of the Board's regulations (15 CFR 400.22) was received on December 6, 2023.

Pursuant to 15 CFR 400.14(b), FTZ production activity would be limited to the specific foreign-status material(s)/component(s) and specific finished product(s) described in the submitted notification (summarized below) and subsequently authorized by the Board. The benefits that may stem from conducting production activity under FTZ procedures are explained in the background section of the Board's website—accessible via www.trade.gov/ftz.

The proposed finished product is automotive display assemblies (duty rate is duty-free).

The proposed foreign-status materials and components include automotive display sub-assemblies, stainless steel screws, and polyethylene foil labels (duty rate ranges from duty-free to 8.5%). The request indicates that certain materials/components are subject to duties under section 301 of the Trade Act of 1974 (section 301), depending on the country of origin. The applicable section 301 decisions require subject merchandise to be admitted to FTZs in privileged foreign status (19 CFR 146.41).

Public comment is invited from interested parties. Submissions shall be addressed to the Board's Executive Secretary and sent to: ftz@trade.gov. The closing period for their receipt is January 29, 2024.

A copy of the notification will be available for public inspection in the “Online FTZ Information System” section of the Board's website.

For further information, contact Juanita Chen at juanita.chen@trade.gov.

Dated: December 13, 2023.
Elizabeth Whiteman,
Executive Secretary.

[FR Doc. 2023-27824 Filed 12-18-23; 8:45 am]

BILLING CODE 3510-DS-P